DEPARTMENT OF HOMELAND SECURITY

Coast Guard

33 CFR Part 117

[Docket No. USCG-2012-0371]

Drawbridge Operation Regulations; Raritan River, Perth Amboy, NJ

AGENCY: Coast Guard, DHS.

ACTION: Notice of temporary deviation from regulations.

SUMMARY: The Commander, First Coast Guard District, has issued a temporary deviation from the regulations governing the operation of the New Jersey Transit Rail Operations (NJTRO) Bridge, across the Raritan River, mile 0.5, at Perth Amboy, New Jersey. Under this temporary deviation the draw may remain in the closed position for four days to facilitate mechanical maintenance. Vessels that can pass under the draw without an opening may do so at all times. This deviation is necessary to facilitate scheduled bridge maintenance.

DATES: This deviation is effective from 9 a.m. on July 11, 2012 through 5 p.m. on July 21, 2012.

ADDRESSES: Documents mentioned in this preamble as being available in the docket are part of docket USCG-2012-0371 and are available online at www.regulations.gov. They are also available for inspection or copying at the Docket Management Facility (M-30), U.S. Department of Transportation, West Building Ground Floor, Room W12-140, 1200 New Jersey Avenue SE., Washington, DC, 20590, between 9 a.m. and 5 p.m., Monday through Friday, except Federal holidays.

FOR FURTHER INFORMATION CONTACT: If you have questions on this rule, call or email Mr. Joe Arca, Project Officer, First Coast Guard District, at (212) 668-7165 joe.m.arca@uscg.mil. If you have questions on viewing the docket, call Renee V. Wright, Program Manager, Docket Operations, telephone 202-366-9826.

SUPPLEMENTARY INFORMATION: The NJTRO Bridge, across the Raritan River, mile 0.5, at Perth Amboy, New Jersey, has a vertical clearance in the closed position of 8 feet at mean high water and 13 feet at mean low water. The existing regulations are listed at 33 CFR 117.747.

The owner of the bridge, NJTRO, requested a temporary deviation to facilitate scheduled mechanical maintenance at the bridge. In order to perform the bridge maintenance the bridge must remain in the closed position.

The waterway users are mostly commercial with some recreational users. The Coast Guard contacted all known commercial waterway users regarding this scheduled maintenance and no objections were received.

Under this temporary deviation the NJTRO Bridge across the Raritan River, mile 0.5, at Perth Amboy, New Jersey, need not open for the passage of vessel traffic between 9 a.m. on July 11, 2012 through 5 p.m. on July 14, 2012. In the event inclement weather prevents the bridge maintenance from being performed on the above dates then the alternate date may be used beginning at 9 a.m. on July 18, 2012 and continuing through 5 p.m. on July 21, 2012.

Vessels that can pass under the draw without a bridge opening may do so at all times.

In accordance with 33 CFR 117.35(e), the bridge must return to its regular operating schedule immediately at the end of the designated time period. This deviation from the operating regulations is authorized under 33 CFR 117.35.

Dated: April 30, 2012.
Gary Kassof,
Bridge Program Manager, First Coast Guard District.

[FR Doc. 2012-11195 Filed 5-8-12; 8:45 am]

BILLING CODE 9110-04-P